DEPARTMENT OF TRANSPORTATION

Federal Aviation Administration

14 CFR Part 39

[Docket No. FAA-2014-0494; Directorate Identifier 2014-CE-017-AD; Amendment 39-17986; AD 2014-20-13]

RIN 2120-AA64

Airworthiness Directives; Pacific Aerospace Limited Airplanes

AGENCY: Federal Aviation Administration (FAA), Department of Transportation (DOT).

ACTION: Final rule.

SUMMARY: We are adopting a new airworthiness directive (AD) for Pacific Aerospace Limited Model 750XL airplanes. This AD results from mandatory continuing airworthiness information (MCAI) issued by an aviation authority of another country to identify and correct an unsafe condition on an aviation product. The MCAI describes the unsafe condition as failure of the fin forward pickup due to possible fatigue cracks. We are issuing this AD to require actions to address the unsafe condition on these products.

DATES: This AD is effective November 12, 2014.

The Director of the Federal Register approved the incorporation by reference of a certain publication listed in the AD as of November 12, 2014.

ADDRESSES: You may examine the AD docket on the Internet at http://www.regulations.gov by searching for and locating Docket No. FAA-2014-0494; or in person at Document Management Facility, U.S. Department of Transportation, Docket Operations, M-30, West Building Ground Floor, Room W12-140, 1200 New Jersey Avenue SE., Washington, DC 20590.

For service information identified in this AD, contact Pacific Aerospace Unlimited, Airport Road, Hamilton, Private Bag HN3027, Hamilton 3240, New Zealand, phone: +64 7 843 6144; fax: +64 7 843 6134; email: pacific@aerospace.co.nz, internet: www.aerospace.co.nz. You may view this referenced service information at the FAA, Small Airplane Directorate, 901 Locust, Kansas City, Missouri 64106. For information on the availability of this material at the FAA, call (816) 329-4148.

FOR FURTHER INFORMATION CONTACT: Karl Schletzbaum, Aerospace Engineer, FAA, Small Airplane Directorate, 901 Locust, Room 301, Kansas City, Missouri 64106; telephone: (816) 329-4123; fax: (816) 329-4090; email: Karl.Schletzbaum@faa.gov.

SUPPLEMENTARY INFORMATION:

Discussion

We issued a notice of proposed rulemaking (NPRM) to amend 14 CFR part 39 to adding an AD that would apply to Pacific Aerospace Limited Model 750XL airplanes. The NPRM was published in the Federal Register on July 23, 2014 (79 FR 42721). The NPRM proposed to correct an unsafe condition for the specified products and was based on mandatory continuing airworthiness information (MCAI) originated by an aviation authority of another country. The MCAI states:

To prevent failure of the fin forward pickup due to possible fatigue cracks, inspect the fitting per the instructions in Pacific Aerospace Limited Mandatory Service Bulletin (MSB) PACSB/XL/068 issue 3, dated 29 May 2014.

If any cracks are found, replace both plates per PACSB/XL/068, before further flight.

The MCAI can be found in the AD docket on the Internet at: http://www.regulations.gov/#!documentDetail;D=FAA-2014-0494-0002.

Comments

We gave the public the opportunity to participate in developing this AD. The following presents the comments received on the proposal and the FAA's response to each comment.

Request FAA Defer Inspections Until a Design Change Is Completed By Manufacturer

Philip Esdaile of Davis Air Repair, Inc, and Ray Ferrell requested the FAA defer inspections until a design change is completed by the manufacturer and then mandate the design change.

Philip Esdaile and Ray Ferrell stated that the inspection is labor intensive and significant damage can be done to the airplane by repeatedly removing the rudder and fin.

We partially agree with the commenter. Requiring a better engineering solution (design change) would allow longer inspection intervals and would cause less wear and tear on the airplane; however, such a design change is not available. The FAA will monitor the progress of the manufacturer's design change and, if considered an acceptable level of safety, consider additional rulemaking or approve it as an alternative method of compliance (AMOC).

We did not change the final rule AD action based on these comments.

Request a Less Intrusive Inspection Method

Kevin Kelly of Paraclete Aviation stated that the full inspection, as required by the MCAI, is too intrusive and over time causes unnecessary stress and damage to the airplane. The commenter believes that the intent of the inspection can be met by an alternative inspection.

We disagree with the commenter. The mandated inspection is specific; we cannot be certain that the alternative inspection proposed by Kevin Kelly is adequate. However, if someone submits substantiating data, the FAA will review and consider all AMOC requests we receive provided they follow the procedures in 14 CFR 39.19 and this AD.

We did not change the final rule AD action based on these comments.

Conclusion

We reviewed the relevant data, considered the comments received, and determined that air safety and the public interest require adopting the AD as proposed except for minor editorial changes. We have determined that these minor changes:

• Are consistent with the intent that was proposed in the NPRM (79 FR 42721, July 23, 2014) for correcting the unsafe condition; and

• Do not add any additional burden upon the public than was already proposed in the NPRM (79 FR 42721, July 23, 2014).

Costs of Compliance

We estimate that this AD will affect 17 products of U.S. registry. We also estimate that it would take about 1 work-hour per product to comply with the basic requirements of this AD. The average labor rate is $85 per work-hour.

Based on these figures, we estimate the cost of the AD on U.S. operators to be $1,445, or $85 per product.

In addition, we estimate that any necessary follow-on actions would take 5 work-hours and require parts costing $328, for a cost of $753 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2014-0494; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-20-13 Pacific Aerospace Limited: Amendment 39-17986; Docket No. FAA-2014-0494; Directorate Identifier 2014-CE-017-AD.

(a) Effective Date

This airworthiness directive (AD) becomes effective November 12, 2014.

(b) Affected ADs

None.

(c) Applicability

This AD applies to Pacific Aerospace Limited Model 750XL airplanes, all serial numbers, certificated in any category.

(d) Subject

Air Transport Association of America (ATA) Code 53: Fuselage.

(e) Reason

This AD was prompted by mandatory continuing airworthiness information (MCAI) originated by an aviation authority of another country to identify and correct an unsafe condition on an aviation product. The MCAI describes the unsafe condition as failure of the fin forward pickup due to possible fatigue cracks. We are issuing this proposed AD to detect and correct cracked fin forward pickup fittings to prevent failure of the fin forward pickup.

(f) Actions and Compliance

Do the following actions as specified in paragraphs (f)(1) and (f)(2), including all subparagraphs, of this AD, unless already done:

(1) Inspect the fin forward pickup fittings for cracks on or before 2,000 hours total time-in-service (TTIS) or 150 hours time-in-service (TIS) after November 12, 2014 (the effective date of this AD), whichever occurs later, and repetitively thereafter at intervals not to exceed 600 hours TIS or 12 months, whichever occurs first. Follow Pacific Aerospace Limited Mandatory Service Bulletin PACSB/XL/068, issue 3, dated May 29, 2014.

Note 1 to paragraph (f)(1) of this AD: The MCAI mentions actions that are different for standard category versus restricted category airplanes. The Pacific Aerospace Limited Model 750XL airplane is only type certificated in the normal (standard) category in the United States so these are the actions that are specified in this AD.

(2) If you find any cracks as a result of any inspection required by paragraph (f)(1) of this AD, before further flight, replace both plates. Do the replacement following Pacific Aerospace Limited Mandatory Service Bulletin PACSB/XL/068, issue 3, dated May 29, 2014.

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4123; fax: (816) 329-4090; email: Karl.Schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI New Zealand Civil Aviation Authority (CAA) AD DCA/750XL/16A, dated June 18, 2014, for related information. The MCAI can be found in the AD docket on the Internet at: http://www.regulations.gov/#!documentDetail;D=FAA-2014-0494-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pacific Aerospace Limited Mandatory Service Bulletin PACSB/XL/068, issue 3, dated May 29, 2014.

(ii) Reserved.

(3) For Pacific Aerospace Limited service information identified in this AD, contact Pacific Aerospace Unlimited, Airport Road, Hamilton, Private Bag HN3027, Hamilton 3240, New Zealand, phone: +64 7 843 6144; fax: +64 7 843 6134; email: pacific@aerospace.co.nz, internet: www.aerospace.co.nz.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on September 26, 2014.
Kelly A. Broadway,
Acting Manager, Small Airplane Directorate, Aircraft Certification Service.

[FR Doc. 2014-23557 Filed 10-6-14; 8:45 am]

BILLING CODE 4910-13-P